DEPARTMENT OF THE INTERIOR

Bureau of Land Management

[LLCAN060000 L71220000.EU00000 LVTFBX980070 19X: CACA-57676; MO#4500157350]

Notice of Realty Action: Direct Sale of Public Lands in Shasta County, CA

AGENCY: Bureau of Land Management

ACTION: Notice of realty action.

SUMMARY: The Bureau of Land Management (BLM) is proposing a noncompetitive (direct) sale of 4.12 acres of public lands in Shasta County, California, to John Friesen. There is no legal public access to these parcels, which are surrounded by private land on three sides. The sale would be subject to applicable provisions of the Federal Land Policy and Management Act of 1976, as amended (FLPMA), and BLM land-sale regulations. The proponent would purchase the two parcels for the appraised fair market value of the land, which is $45,500.

DATES: Submit written comments to the BLM regarding this direct sale by September 16, 2022.

ADDRESSES: Mail written comments to Jennifer Mata, Field Manager, BLM, Redding Field Office, 6640 Lockheed Drive, Redding, California 96002 or submit them by email to jmata@blm.gov.

FOR FURTHER INFORMATION CONTACT: Lindsey Moyer, Realty Specialist, BLM Redding Field Office, telephone: (530) 224-2121, email: lmoyer@blm.gov, or you may contact the BLM Redding Field Office at the earlier-listed address. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with 43 CFR 2720.0-6, only the surface estate of the lands would be conveyed in the sale, and the United States would retain the mineral estate, including sand and gravel. The BLM will consider a direct sale of the following described lands in accordance with Section 203 of FLPMA.

Mount Diablo Meridian, California

T. 32 N, R. 5 W,

Sec. 28, lots 160 and 161.

The area aggregates 4.12 acres.

These lands were identified for disposal in the BLM Redding Resource Management Plan (RMP) approved July 27,1993, and amended November 15, 2005. The BLM also completed a plan maintenance action February 2, 2022, to identify these parcels by Assessor Parcel Number and clarify that these parcels had already been identified in the RMP for disposal, as well as more specifically outline their suitability for disposal, pursuant to Section 203(a)(1) of FLPMA.

FLPMA authorizes the sale of public lands without competitive bidding by giving preference to the adjoining landowners. These BLM parcels are small unmanageable remnants that are surrounded by Mr. Friesen's property and property owned by one other landowner. The BLM notified the other landowner of the potential sale to gauge interest. This landowner responded that they were not interested in acquiring the BLM parcels. Mr. Friesen's intent is to acquire the public land to secure access to his adjacent private lands. This sale would terminate an existing reciprocal right-of-way.

The BLM considered the criteria for disposal found in Sec. 203(a)(1) of FLMPA, which states that land is suited for disposal, “. . . because of its location or other characteristics is difficult and uneconomic to manage as part of the public lands and is not suitable for management by another Federal department or agency.” The lands were examined and have been determined to be suitable for direct sale consistent with 43 CFR 2711.3-3, which states the authorized officer can determine a direct sale best serves the public interest, for example when the adjoining land pattern indicates a direct sale would be most efficient. The identified land is not needed for any Federal purpose.

In conformance with the National Environmental Policy Act, the BLM prepared a site-specific environmental assessment (EA) (DOI-BLM-CA-360-2021-0019-EA). Based on the EA, the BLM issued a Finding of No Significant Impact and Decision Record on August 12, 2021, to conduct the sale of the lands.

Publication of this notice in the Federal Register will segregate the previously described lands from all forms of appropriation under the public land laws, including the mining laws, except for the sale provisions under Section 203 of the FLPMA. The segregation will terminate automatically upon issuance of a patent or on August 2, 2024, whichever occurs first, unless extended by the BLM California State Director in accordance with 43 CFR 2711.1-2(d) prior to the termination date. If issued, the patent will include the following terms, covenants, conditions, and reservations:

1. A right-of-way thereon for ditches or canals constructed by the authority of the United States under the Act of August 30, 1890;

2. All minerals in the lands, including, without limitation, substances subject to disposition under the general mining laws, the Mineral Leasing Act, the Materials Act, and the Geothermal Steam Act, and to the United States, its permittees, licensees, lessees, and mining claimants, the right to prospect for, mine, and remove the minerals owned by, acquired by, or vested in the United States under applicable law and such regulations as the Secretary of the Interior may prescribe. This includes necessary ingress and egress rights and the right to conduct all necessary and incidental activities authorized under law and implementing regulations. Unless otherwise provided by separate agreement with the surface owner, permittees, licensees, and lessees of the United States shall reclaim disturbed areas to the extent prescribed by regulations issued by the Secretary of the Interior. All causes of action brought to enforce the rights of the surface owner under the regulations above referred to shall be instituted against mining claimants, permittees, licenses, and lessees of the United States; and the United States shall not be liable for the acts or omissions of its mining claimants, permittees, licenses, or lessees;

3. Valid existing rights of record;

4. An appropriate indemnification clause protecting the United States from claims arising out of the patentee's use, occupancy, or operations on the patented lands; and

5. Additional terms and conditions that the authorized officer deems appropriate.

The EA, appraisal, maps, and Environmental Site Assessment are available for review during business hours Monday through Friday at the address in the ADDRESSES section, except during federally recognized holidays. If the office is closed due to Covid prevention protocols, interested parties can make arrangements to view the documents by contacting the office at (530) 224-2100. Interested parties may submit written comments concerning the sale, including notification of any encumbrances or other claims related to the parcels, by either of the methods identified in the ADDRESSES section earlier.

The BLM California State Director will review adverse comments regarding the sale and may sustain, vacate, or modify this realty action in whole or in part. In the absence of timely objections, this realty action will become the final determination of the Department of the Interior.

In addition to publication in the Federal Register, the BLM will publish this notice in the Redding Record Searchlight newspaper once a week for 3 consecutive weeks.

Before including your address, phone number, email address, or other personal identifying information in your comment, you should be aware that your entire comment, including your personal identifying information, may be made publicly available at any time. While you can ask us in your comment to withhold your personal identifying information from public review, we cannot guarantee that we will be able to do so.

(Authority: 43 CFR 2711)

Erica E. St. Michel,
BLM California Deputy State Director, Communications.

[FR Doc. 2022-16501 Filed 8-1-22; 8:45 am]

BILLING CODE 4310-40-P